DEPARTMENT OF EDUCATION

[Docket No.: ED-2020-SCC-0109]

Agency Information Collection Activities; Comment Request; CARES Act Programs; Equitable Services to Students and Teachers in Non-Public Schools

AGENCY: Office of Elementary and Secondary Education (OESE), Department of Education (ED).

ACTION: Notice.

SUMMARY: In accordance with the Paperwork Reduction Act of 1995, ED is requesting the Office of Management and Budget (OMB) to conduct an emergency review of a new collection.

DATES: Emergency approval by the OMB has been requested by July 1, 2020 as it relates to the published Interim Final Rule on the CARES Act Programs; Equitable Services to Students and Teachers in Non-Public Schools (85 FR 39479). Interested persons are invited to submit comments on or before September 8, 2020.

ADDRESSES: To access and review all the documents related to the information collection listed in this notice, please use http://www.regulations.gov by searching the Docket ID number ED-2020-SCC-0109. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-8240.

FOR FURTHER INFORMATION CONTACT: For specific questions related to collection activities, please contact Andrew Brake, 202-453-6136.

SUPPLEMENTARY INFORMATION: Since this collection was approved through emergency processing, the Department is providing the public with an opportunity to comment through the regular clearance process. This information collection will be transferred to the information collection requests, 1810-0741 and 1810-0743, to complete the comment period process. The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: CARES Act Programs; Equitable Services to Students and Teachers in Non-Public Schools.

OMB Control Number: 1810-NEW.

Type of Review: New information collection.

Respondents/Affected Public: State, Local or Tribal Governments.

Total Estimated Number of Annual Responses: 1,900.

Total Estimated Number of Annual Burden Hours: 76,393.

Abstract: The U.S. Department of Education (Department) is issuing an interim final rule to clarify the requirement in section 18005 of Division B of the Coronavirus Aid, Relief, and Economic Security Act (CARES Act) that local educational agencies (LEAs) provide equitable services to students and teachers in non-public schools under the Governor's Emergency Education Relief Fund (GEER Fund) and the Elementary and Secondary School Emergency Relief Fund (ESSER Fund) (collectively, the CARES Act programs). Section 18005(a) of the CARES Act requires an LEA that receives funds under the GEER Fund or the ESSER Fund to provide equitable services in the same manner as provided under section 1117 of the Elementary and Secondary Education Act of 1965 (ESEA) to students and teachers in non-public schools, as determined in consultation with representatives of non-public schools. This is a request for an emergency paperwork clearance from OMB on the data collections associated with the interim final rule.

Additional Information: An emergency clearance approval for the use of the system is described below due to the following conditions:

Pursuant to the Office of Management and Budget (OMB) procedures established at 5 CFR part 1320, the U.S. Department of Education (Department) requests that the following collection of information, non-public school poverty count and enrollment data to be collected by local educational agencies (LEAs) that receive funds under the Governor's Emergency Education Relief Fund (GEER Fund) and the Elementary and Secondary School Emergency Relief Fund (ESSER Fund) (collectively, the CARES Act programs), be processed in accordance with § 1320.13 Emergency Processing. The Department is issuing an interim final rule, Equitable Services to Students and Teachers in Non-Public Schools, to clarify the requirement in section 18005 of Division B of the Coronavirus Aid, Relief, and Economic Security Act (CARES Act) that LEAs provide equitable services to students and teachers in non-public schools under the CARES Act programs. The Department has determined that LEAs must collect this information prior to the expiration of the time periods established under part 1320, and that approval of this information collection is essential for LEAs to effectively implement the interim final rule. Therefore, the Department is requesting emergency approval to provide LEAs the means to carry out the CARES Act programs as intended.

Dated: July 1, 2020.
Kate Mullan,
PRA Coordinator, Strategic Collections and Clearance, Governance and Strategy Division, Office of Chief Data Officer, Office of Planning, Evaluation and Policy Development.

[FR Doc. 2020-14550 Filed 7-6-20; 8:45 am]

BILLING CODE 4000-01-P